DEPARTMENT OF STATE

[Public Notice 8203]

30-Day Notice of Proposed Information Collection: Exchange Visitor Program Participant Survey—Summer Work Travel

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: The Department will accept comments from the public up to March 28, 2013.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents, to Robin J. Lerner, Deputy Assistant Secretary for Private Sector Exchange, U.S. Department of State, SA-5, Floor 5, 2200 C Street NW., Washington, DC 20522-0505, who may be reached at 202-632-2805 or email at jexchanges@state.gov.

SUPPLEMENTARY INFORMATION:

• Title of Information Collection: Exchange Visitor Program Participant Survey—Summer Work Travel Program.

• OMB Control Number: None.

• Type of Request: New Collection.

• Originating Office: Bureau of Educational and Cultural Affairs, ECA/EC.

• Form Number: SV 2012-0004.

• Respondents: Exchange Visitor Program participants in the Summer Work Travel category.

• Estimated Number of Respondents: 109,000.

• Estimated Number of Responses: 109,000.

• Average Hours per Response: 30 minutes.

• Total Estimated Burden Time: 54,500 hours

• Frequency: On occasion.

• Obligation to Respond: Voluntary.

We are soliciting public comments to permit the Department to:

• Evaluate whether the proposed information collection is necessary for the effective administration of the Summer Work Travel category of the Exchange Visitor Program.

• Evaluate the accuracy of our estimate of the burden of the proposed collection, including the validity of the methodology and assumptions used.

• Enhance the quality, utility, and clarity of the information to be collected.

• Minimize the reporting burden on those who are to respond, including the use of automated collection techniques or other forms of technology.

Please note that comments submitted in response to this Notice are public record. Before including any detailed personal information, you should be aware that your comments as submitted, including your personal information, will be available for public review.

Abstract of proposed collection: This collection of information is under the provisions of the Mutual Educational and Cultural Exchange Act, as amended, and its implementing regulations (22 CFR Part 62). Summer Work Travel Participant Surveys will be sent to all Summer Work Travel participants at least once during their program. Sponsors are required to ensure that the link to the Survey is provided to all exchange participants in orientation materials, follow-up emails, etc. Although the survey is voluntary, the Department is trying to capture a high volume of responses to trend participant satisfaction, complaints, safety and welfare.

Methodology: The collection will be submitted to the Department electronically through Survey Monkey.

Dated:February 14, 2013.
Robin J. Lerner,
Deputy Assistant Secretary, Office of Private Sector Exchange, Bureau of Educational and Cultural Affairs, Department of State.

[FR Doc. 2013-04469 Filed 2-25-13; 8:45 am]

BILLING CODE 4710-06-P